DEPARTMENT OF ENERGY

Federal Energy Regulatory Commission

[Docket No. EL03-227-000]

Office of the People's Counsel of the District of Columbia, Complainant, v. Mirant Americas Energy Marketing, L.P., Respondent; Notice of Complaint

September 9, 2003.

Take notice that on September 8, 2003, the Office of the People's Counsel of the District of Columbia (Office or DC PSC or Complainant) filed a Complaint Requesting Fast Track Processing pursuant to Sections 206 and 306 of the Federal Power Act and Rule 206 of the Commission's Rules (18 CFR 385.206). Complainant seeks an immediate order from the Commission holding that the rights and obligations of the Respondent and Potomac Electric Power Company (PEPCO) under PEPCO FERC Electric Tariff First Revised Volume No. 5, Substitute Service Agreement No. 20, the Back-to-Back Agreement, cannot be modified or terminated without an appropriate filing with, and approval by, this Commission. Complainant requests in the alternative that if the Commission considers itself disabled by Bankruptcy Court's “Ex Parte Temporary Retraining Order Against Potomac Electric Power Company and the Federal Energy Regulatory Commission,” issued on August 28, 2003, or any subsequent injunction, from acting on this complaint consistent with the Commission's statutory obligations under the Federal Power Act, the Commission promptly issue an order informing the Office of that disability.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at using the “eLibrary” link. Enter the docket number excluding the last three digits in the docket number field to access the document. For assistance, please contact FERC Online Support at or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: September 18, 2003

Magalie R. Salas,
Secretary.

[FR Doc. 03-23410 Filed 9-12-03; 8:45 am]

BILLING CODE 6717-01-P